ENVIRONMENTAL PROTECTION AGENCY

[FRL-6710-2]

Agency Information Collection Activities: Submission for OMB Review; Comment Request; New Source Performance Standards (NSPS), Surface Coating of Plastic Parts for Business Machines

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards (NSPS), Subpart TTT, Surface Coating of Plastic Parts for Business Machines; OMB Control Number 2060-0162; expiration date August 31, 2000. The ICR describes the nature of the information collection and its expected burden and cost; where appropriate, it includes the actual data collection instrument.

DATES: Comments must be submitted on or before July 6, 2000.

FOR FURTHER INFORMATION CONTACT: For a copy of the ICR contact Sandy Farmer at EPA by phone at (202) 260-2740, by E-Mail at Farmer.Sandy@epamail.epa.gov or download off the Internet at http://www.epa.gov/icr and refer to EPA ICR No.1093.06. For technical questions about the ICR contact Anthony Raia at 202-564-6045.

SUPPLEMENTARY INFORMATION: Title: New Source Performance Standards (NSPS), Subpart TTT, Surface Coating of Plastic Parts for Business Machines. OMB Control Number 2060-0162, EPA ICR Number 1093.06, expiration date 8/31/2000. This is a request for extension of a currently approved collection.

Abstract: Industrial surface coating operations emit volatile organic compounds (VOCs) in quantities that the Administrator believes cause or contribute to air pollution that may reasonably be anticipated to endanger public health or welfare. Consequently, New Source Performance Standards for the surface coating of plastic parts for business machines were promulgated. VOC emissions from these facilities are the result of operation of the spray booths that apply prime coats, color coats, texture coats or touch-up coats. The standards ensure that owners or operators of these facilities use coatings that contain a low proportion of VOCs, and coating application equipment that provides a high transfer efficiency. In addition, or as an alternative, sources may use control equipment to meet the emission limits. In order to ensure compliance with these standards, adequate recordkeeping is necessary. In the absence of such information, enforcement personnel would be unable to determine whether the standards are being met on a continuous basis, as required by the Clean Air Act.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 21, 2000 (61 FR 45959); no comments were received.

Burden Statement: The annual public reporting and recordkeeping burden for this collection of information is estimated to average 30 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Industrial surface coating companies that process plastic parts used in the manufacture of business machines.

Estimated Number of Respondents: 41.

Frequency of Response: Initial, Quarterly, Semi-Annually.

Estimated Total Annual Hour Burden: 3,639 hours.

Estimated Total Annualized Capital, O&M Cost Burden: 0.

Send comments on the Agency's need for this information, the accuracy of the provided burden estimates, and any suggested methods for minimizing respondent burden, including through the use of automated collection techniques to the following addresses. Please refer to EPA ICR No. 1093.06 and OMB Control No. 2060-0162 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 22, 2000.
Oscar Morales,
Director, Collection Strategies Division.

[FR Doc. 00-14181 Filed 6-5-00; 8:45 am]

BILLING CODE 6560-50-P